DEPARTMENT OF THE INTERIOR

Bureau of Land Management

[ID-300-1020-PH; DDG080001]

Notice of Public Meeting, Idaho Falls District Resource Advisory Council Meeting

AGENCY: Bureau of Land Management, Interior.

ACTION: Notice of public meetings.

SUMMARY: In accordance with the Federal Land Policy and Management Act (FLPMA) and the Federal Advisory Committee Act of 1972 (FACA), the U.S. Department of the Interior, Bureau of Land Management (BLM) Idaho Falls District Resource Advisory Council (RAC), will meet as indicated below.

DATES: The RAC will next meet in Salmon, Idaho on November 28 and 29, 2007. Day one of the meeting will be an orientation session aimed at training new members. An overview of each of the Idaho Falls District's four field offices will be presented. The second day will include updates of ongoing issues, including the Challis Field Office Travel Management Plan and Snake River Activity/Operations Plan. The meeting will also consider proposed fee increases on the Salmon-Challis National Forest and Upper Snake Field Office, as provided by the Recreation Enhancement Act. Finally, the RAC will set its quarterly meeting schedule for 2008. Other topics will be scheduled as appropriate. All meetings are open to the public.

SUPPLEMENTARY INFORMATION: The 15-member Council advises the Secretary of the Interior, through the Bureau of Land Management, on a variety of planning and management issues associated with public land management in the BLM Idaho Falls District (IFD), which covers eastern Idaho.

All meetings are open to the public. The public may present written comments to the Council. Each formal Council meeting will also have time allocated for hearing public comments. Depending on the number of persons wishing to comment and time available, the time for individual oral comments may be limited. Individuals who plan to attend and need special assistance, such as sign language interpretation, tour transportation or other reasonable accommodations, should contact the BLM as provided below.

FOR FURTHER INFORMATION CONTACT: Joanna Wilson or Sonja Shadow, RAC Coordinator, Idaho Falls District, 1405 Hollipark Dr., Idaho Falls, ID 83401. Telephone (208) 524-7550. E-mail: Joanna_Wilson@blm.gov or Sonja_Shadow@blm.gov.

Dated: October 17, 2007.
Sonja Shadow,
RAC Coordinator, Public Affairs Specialist.

[FR Doc. E7-20807 Filed 10-23-07; 8:45 am]

BILLING CODE 4310-GG-P